DEPARTMENT OF THE INTERIOR

National Park Service

[NPS-AKRO-DENA-CAKR-LACL-KOVA-WRST-GAAR-28459; PPAKAKROR4; PPMPRLE1Y.LS0000]

National Park Service Alaska Region Subsistence Resource Commission Program; Notice of Public Meetings

AGENCY: National Park Service, Interior.

ACTION: Meeting notice.

SUMMARY: The National Park Service (NPS) is hereby giving notice that the Denali National Park Subsistence Resource Commission (SRC), the Cape Krusenstern National Monument SRC, the Lake Clark National Park SRC, the Kobuk Valley National Park SRC, the Wrangell-St. Elias National Park SRC, and the Gates of the Arctic National Park SRC will meet as indicated below.

DATES: See SUPPLEMENTARY INFORMATION for meeting dates for specific commissions.

ADDRESSES: The Denali National Park SRC will meet at the Cantwell Lodge, at Denali Highway MM 136, Cantwell, AK 99726. The Cape Krusenstern National Monument SRC will meet in the conference room at the Northwest Arctic Heritage Center, 171 3rd Avenue, Kotzebue, AK 99752. The Lake Clark National Park SRC will meet at the Port Alsworth Community Hall, Port Alsworth, AK 99683. The Kobuk Valley National Park SRC will meet in the conference room at the Northwest Arctic Heritage Center, 171 3rd Avenue, Kotzebue, AK 99752. The Wrangell-St. Elias National Park SRC will meet at the NPS office in the Copper Center Visitor Center Complex, Wrangell-St. Elias National Park and Preserve, Mile 106.8 Richardson Highway, Copper Center, AK 99573. The Gates of the Arctic National Park SRC will meet at the Sophie Station Hotel, 1717 University Avenue South, Fairbanks, AK 99709.

SUPPLEMENTARY INFORMATION: The NPS is holding meetings pursuant to the Federal Advisory Committee Act (5 U.S.C. Appendix 1-16). The NPS SRC program is authorized under title VIII, section 808 of the Alaska National Interest Lands Conservation Act (16 U.S.C. 3118). The purpose of the SRC is to devise and recommend to the Governor of Alaska and the Secretary of the Interior a program for subsistence hunting within Alaska national parks and monuments where subsistence is authorized.

The Denali National Park SRC will meet from 10:00 a.m. to 5:00 p.m. or until business is completed on Wednesday, August 28, 2019. Teleconference participants must call the NPS office at (907) 644-3604 prior to the meeting to receive teleconference passcode information. For more detailed information regarding these meetings, or if you are interested in applying for SRC membership, contact Designated Federal Officer Don Striker, Superintendent, at (907) 683-9581, or via email at don_striker@nps.gov or Amy Craver, Subsistence Coordinator, at (907) 644-3604 or via email at amy_craver@nps.gov or Clarence Summers, Federal Advisory Committee Group Federal Officer, at (907) 644-3603 or via email at clarence_summers@nps.gov.

The Cape Krusenstern National Monument SRC will meet from 1:00 p.m. to 5:00 p.m. or until business is completed on Tuesday, October 1, 2019, and from 9:00 a.m. to 12:00 p.m. on Wednesday, October, 2, 2019. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Clarence Summers, Federal Advisory Committee Group Federal Officer, at (907) 644-3603 or via email at clarence_summers@nps.gov.

The Lake Clark National Park SRC will meet from 1:00 p.m. to 4:00 p.m. or until business is completed on Wednesday, October 2, 2019. The alternate meeting date is Wednesday, October 9, 2019, at the same time and location. For more detailed information regarding this meeting or if you are interested in applying for SRC membership, contact Designated Federal Officer Susanne Green, Superintendent, at (907) 644-3627, or via email at susanne_green@nps.gov or Liza Rupp, Subsistence Manager, at (907) 644-3648 or via at email elizabeth_rupp@nps.gov or Clarence Summers, Federal Advisory Committee Group Federal Officer, at (907) 644-3603 or via email at clarence_summers@nps.gov.

The Kobuk Valley National Park SRC will meet from 1:00 p.m. to 5:00 p.m. or until business is completed on Thursday, October 3, 2019, and from 9:00 a.m. to 12:00 p.m. on Friday, October 4, 2019. Teleconference participants must call the NPS office at (907) 442-8342 prior to the meeting to receive teleconference passcode information. For more detailed information regarding this meeting or if you are interested in applying for SRC membership, contact Designated Federal Officer Maija Lukin, Superintendent, at (907) 442-8301, or via email at maija_lukin@nps.gov or Hannah Atkinson, Cultural Resource Specialist, at (907) 442-8342 or via email at hannah_atkinson@nps.gov or Clarence Summers, Federal Advisory Committee Group Federal Officer, at (907) 644-3603 or via email at clarence_summers@nps.gov.

The Wrangell-St. Elias National Park SRC will meet from 1:00 p.m. to 5:00 p.m. or until business is completed on Monday, October 7, 2019, and from 9:00 a.m. to 5:00 p.m. on Tuesday, October 8, 2019. The alternate meeting dates are Tuesday, October 29, 2019, from 9:00 a.m. to 5:00 p.m., and Wednesday, October 30, 2019, from 9:00 a.m. to 5:00 p.m. or until business is completed at the same location. For more detailed information regarding these meetings, or if you are interested in applying for SRC membership, contact Designated Federal Officer Ben Bobowski, Superintendent, (907) 822-7202, or via email at ben_bobowski@nps.gov or Barbara Cellarius, Subsistence Coordinator, at (907) 822-7236 or via email at barbara_cellarius@nps.gov or Clarence Summers, Federal Advisory Committee Group Federal Officer, at (907) 644-3603 or via email at clarence_summers@nps.gov.

The Gates of the Arctic National Park SRC will meet from 8:30 a.m. to 5:00 p.m. or until business is complete on both Wednesday, November 6, 2019, and Thursday, November 7, 2019. Teleconference participants must call the NPS office at (907) 455-0639 prior to the meeting to receive teleconference passcode information. For more detailed information regarding this meeting or if you are interested in applying for SRC membership, contact Designated Federal Officer Greg Dudgeon, Superintendent, at (907) 457-5752, or via email at greg_dudgeon@nps.gov or Marcy Okada, Subsistence Coordinator, at (907) 455-0639 or via email at marcy_okada@nps.gov or Clarence Summers, Federal Advisory Committee Group Federal Officer, at (907) 644-3603 or via email at clarence_summers@nps.gov.

SRC meetings are open to the public and will have time allocated for public comments. The public is welcome to present written or oral comments to the SRC. SRC meetings will be recorded and meeting minutes will be available upon request from the Superintendent for public inspection approximately six weeks after the meeting.

Purpose of the Meeting: The agenda may change to accommodate SRC business. The proposed meeting agenda for each meeting includes the following:

1. Call to Order—Confirm Quorum

2. Welcome and Introduction

3. Review and Adoption of Agenda

4. Approval of Minutes

5. Superintendent's Welcome and Review of the SRC Purpose

6. SRC Membership Status

7. SRC Chair and Members' Reports

8. Superintendent's Report

9. Old Business

10. New Business

11. Federal Subsistence Board Update

12. Alaska Boards of Fish and Game Update

13. National Park Service Staff Reports

a. Superintendent/Ranger Reports

b. Resource Manager's Report

c. Subsistence Manager's Report

14. Public and Other Agency Comments

15. Work Session

16. Set Tentative Date and Location for Next SRC Meeting

17. Adjourn Meeting.

SRC meeting location and date may change based on inclement weather or exceptional circumstances. If the meeting date and location are changed, the Superintendent will issue a press release and use local newspapers and radio stations to announce the rescheduled meeting.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2019-17221 Filed 8-9-19; 8:45 am]

BILLING CODE 4312-52-P